DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 1, 2019. Address written comments to Statutory Import Programs Staff, Room 3720, U.S. Department of Commerce, Washington, DC 20230. Applications may be examined between 8:30 a.m. and 5:00 p.m. at the U.S. Department of Commerce in Room 3720.

Docket Number: 18-010. Applicant: University of Connecticut, 91 North Eagelville Road, Storrs, CT 06269. Instrument: STED Confocal Microscope. Manufacturer: Abberior Instruments GmBH, Germany. Intended Use: The instrument will be used to study a variety of biological material related to medical research. Scientists at the University of Connecticut will be able to reveal the protein nano-structure of: mouse/rat brain tissue and cells, mouse colon tissue, fruit fly chromosomes, mouse spinal cord tissue, and mammalian or invertebrate cultured cells. The experiments to be conducted involve taking the material and examining it with various wavelengths of light to obtain fluorescent images of cellular structures with high levels of detail. The objectives pursued by research with this equipment are understanding of the normal and pathological mechanisms of cellular function relating to human health and disease. The techniques used by employing this equipment include using the method of stimulated emission depletion (STED), which enables the visualization of high resolution, microscopic structure of biological specimens. Justification for Duty-Free Entry: There are no instruments of the same general category manufactured in the United States. Application accepted by Commissioner of Customs: November 28, 2018.

Dated: April 5, 2019.
Gregory W. Campbell,
Director, Subsidies Enforcement, Enforcement and Compliance.

[FR Doc. 2019-07199 Filed 4-10-19; 8:45 am]

BILLING CODE 3510-DS-P